DEPARTMENT OF DEFENSE

Office of the Secretary

[Docket ID DoD-2022-OS-0033]

Proposed Collection; Comment Request

AGENCY: The Office of the Under Secretary of Defense for Personnel and Readiness (USD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 20, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05 Alexandria, VA 22350, LaTarsha Yeargins, 571-372-2089.

SUPPLEMENTARY INFORMATION: Title; Associated Form; and OMB Number: Network of Support Pilot Program Survey; OMB Control Number 0704-NSPP.

Needs and Uses: The DoD and American Red Cross have entered into an agreement to encourage members of the Armed Forces to designate persons to receive information regarding the military service. These designated persons are made eligible to opt-in to receive DoD Military OneSource Friends & Family Connection eNewsletter, to provide a greater understanding of military life, military career progression, and resources available to service members and their families at various stages of military life. In accordance with National Defense Authorization Act 2020 SEC. 507E, the DoD, in consultation with the American Red Cross, shall administer a survey to persons who elected to receive information under the pilot program no later than two years after the date on which the pilot program commences.

The purpose for the survey under review is to receive feedback regarding the quality of information disseminated to the designated recipients, including whether such information appropriately reflects the military career progression of members of the Armed Forces. The Network of Support Pilot Program Survey will collect information from friends and family members identified by active-duty service members or through self-identification via the American Red Cross Hero Network, who have opted-in to communications from the Military OneSource Friends & Family Connection eNewsletter. The survey is voluntary. Respondents who have opted-in to the program to receive the Military OneSource Friends & Family Connection eNewsletter have unique insight regarding the quality of information received from non-dependents.

Affected Public: Individuals or households.

Annual Burden Hours: 11.25 hours.

Number of Respondents: 75.

Responses per Respondent: 1.

Annual Responses: 75.

Average Burden per Response: 9 minutes.

Frequency: Once.

Dated: March 15, 2022.
Aaron T. Siegel,
Alternate OSD Federal Register Liaison Officer, Department of Defense.

[FR Doc. 2022-05928 Filed 3-18-22; 8:45 am]

BILLING CODE 5001-06-P